DEPARTMENT OF THE INTERIOR

Bureau of Land Management

[LLAZ931000.L51010000.FX0000.LVRWA09A2310; AZA32315]

Notice of Segregation of Public Lands in the State of Arizona Associated With the Proposed Mohave County Wind Farm Project, Mohave County, AZ

AGENCY: Bureau of Land Management, Interior.

ACTION: Notice.

SUMMARY: The Bureau of Land Management (BLM) is segregating public lands located in the State of Arizona from appropriation under the public land laws, including the mining law, but not the mineral leasing or material sales acts, for a period of 2 years. This segregation is being made in connection with the BLM's processing of a right-of-way (ROW) application for British Petroleum Wind Energy North America's Mohave County Wind Farm Project (Proposed Project). This segregation covers approximately 38,016.60 acres of BLM-administered public lands located within the Proposed Project's ROW application area.

DATES: This segregation is effective on March 2, 2012.

FOR FURTHER INFORMATION CONTACT: Eddie Arreola, Supervisory Project Manager; Telephone: 602-417-9505; Address: One North Central Avenue, Suite 800, Phoenix, Arizona 85004-4427, or email: earreola@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The BLM's Kingman Field Office, Kingman, Arizona, in connection with its consideration of a ROW application for the Proposed Project, is segregating the following described public lands located within the Proposed Project's ROW application area, subject to valid existing rights, from appropriation under the public land laws, including the mining law, but not the mineral leasing or the material sales acts:

Gila and Salt River Meridian, Arizona

T. 28 N., R. 19 W.,

Sec. 6;

Sec. 7, N½.

T. 29 N., R. 19 W.,

Sec. 5, lot 4, SW¼NW¼, and W½SW¼;

Secs. 6 and 7;

Sec. 8, S½;

Sec. 9, W½SW¼;

Sec. 16, W½NW¼ and W½SW¼;

Secs. 17 to 20, inclusive;

Secs. 30 and 31;

Sec. 32, W½NE¼; W½, and W½SE¼.

T. 28 N., R. 20 W.,

Secs. 1 to 11, inclusive;

Sec. 12, N½, N½SW¼, and N½SE¼;

Sec. 14, N½, N½SW¼, and N½SE¼;

Secs. 15 to 22, inclusive;

Secs. 27 to 34, inclusive.

T. 29 N., R. 20 W.,

Secs. 1 and 2;

Secs. 11 to 15, inclusive;

Secs. 22 to 27, inclusive;

Secs. 34 to 36, inclusive.

T. 28 N., R. 21 W.,

Sec. 1;

Secs. 12 and 13;

Sec. 14, E½SE¼;

Sec. 24, E½.

Containing 38,016.60 acres, more or less.

The area described contains approximately 38,016.60 acres located in Mohave County, Arizona. The BLM announced its intention to prepare an Environmental Impact Statement and initiated a public scoping process for the Proposed Project on November 20, 2009 (74 FR 60289). A supplemental notice of intent was issued on July 26, 2010 (75 FR 43551).

The BLM is segregating the lands under the authority contained in 43 CFR 2091.3-1(e) and 43 CFR 2804.25(e) for a period of 2 years, subject to valid existing rights. This 2-year segregation period will commence on March 2, 2012. These public lands will be segregated from appropriation under the public land laws, including the mining law, but not the mineral leasing or material sales acts. This segregation will not affect valid existing rights. It has been determined that this segregation is necessary for the orderly administration of the public lands by maintaining the status quo while the BLM processes the ROW application for the Proposed Project.

The segregation period will terminate and the lands will automatically reopen to appropriation under the public land laws, including the mining laws, if one of the following events occurs: (1) Upon the issuance of a decision by the authorized officer granting, granting with modifications, or denying the application for a right-of-way; (2) upon publication of a Federal Register notice of termination of the segregation; or (3) without further administrative action at the end of the segregation provided for in this Federal Register notice initiating the segregation, whichever occurs first. Any segregation made under this authority would be effective for a period of 2 years. The lands to be segregated pursuant to the authority at 43 CFR 2091.3-1(e) and 2804.25(e) are identified in the legal description provided above.

Raymond Suazo,
State Director.

Authority: 43 CFR 2091.3-1(e), 43 CFR 2804.25(e).

[FR Doc. 2012-5152 Filed 3-1-12; 8:45 am]

BILLING CODE 4310-32-P